DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 29, 2007.

Interested persons are invited to submit written comments regarding the subject matter of the investigations to the Director, Division of Trade Adjustment Assistance, at the address shown below, not later than May 29, 2007.

The petitions filed in this case are available for inspection at the Office of the Director, Division of Trade Adjustment Assistance, Employment and Training Administration, U.S. Department of Labor, Room C-5311, 200 Constitution Avenue, NW., Washington, DC 20210.

Signed at Washington, DC this 9th day of May 2007.
Ralph DiBattista,
Director, Division of Trade Adjustment Assistance.

Appendix—TAA Petitions Instituted Between 4/30/07 and 5/4/07
TA-W | Subject firm (petitioners) | Location | Date of institution | Date of petition
61393 | Best Artex, LLC (Wkrs) | Highland, IL | 04/30/07 | 04/26/07
61394 | Aavid Thermalloy LLC (Wkrs) | Laconia, NH | 04/30/07 | 04/24/07
61395 | Federal Mogul (USW) | Exton, PA | 04/30/07 | 04/27/07
61396 | Rayolite (Comp) | Newark, OH | 04/30/07 | 04/18/07
61397 | Hamlin Tool & Machine Co., Inc. (Wkrs) | Rochester, MI | 04/30/07 | 04/16/07
61398 | Commercial Vehicle Group (Comp) | Statesville, NC | 04/30/07 | 04/27/07
61399 | Wehadkee Yarn Mills (Comp) | Talladega, AL | 04/30/07 | 04/27/07
61400 | Smart Papers/West Chicago IDC Converting (State) | Hamilton, OH | 04/30/07 | 04/26/07
61401 | Victor Plastics Inc., Kalona Division (Comp) | Kalona, IA | 04/30/07 | 04/26/07
61402 | Advanced Decorative Systems, Inc. (Wkrs) | Millington, MI | 04/30/07 | 04/26/07
61403 | WestPoint Home, Opelika Finishing Plant (Comp) | Opelika, AL | 04/30/07 | 04/24/07
61404 | Air System Comonents, Inc. (Comp) | El Paso, TX | 04/30/07 | 04/20/07
61405 | Jarden Consumer Solutions (Wkrs) | Milford, MA | 04/30/07 | 04/26/07
61406 | Texas Instruments Kilby Fab (Wkrs) | Dallas, TX | 05/01/07 | 04/30/07
61407 | General Electric Consumer & Industrial (State) | Bridgeport, CT | 05/01/07 | 04/30/07
61408 | Toro Company (Wkrs) | El Paso, TX | 05/01/07 | 04/23/07
61409 | Delphi Rochester New York (Union) | Rochester, NY | 05/01/07 | 04/24/07
61410 | CGI Circuits, Inc. (Comp) | Taunton, MA | 05/01/07 | 04/20/07
61411 | Surprise Technologies (Wkrs) | Marion, OH | 05/01/07 | 04/24/07
61412 | Carlisle Finishing International Textile Group (Wkrs) | Carlisle, SC | 05/01/07 | 04/27/07
61413 | Nautel Maine Inc. (Wkrs) | Bangor, ME | 05/02/07 | 04/05/07
61414 | Mercury Marine (Union) | Fond du Lac, WI | 05/02/07 | 04/23/07
61415 | Robinson Anton Textile Company Dye Operatrion (Comp) | Bloomsburg, PA | 05/02/07 | 04/23/07
61416 | Golden Manufacturing Company, Inc. (Comp) | Marietta, MS | 05/02/07 | 04/05/07
61417 | Edenton Dyeing & Finishing LLC (Comp) | Edenton, NC | 05/02/07 | 04/30/07
61418 | Temco Metal Products (State) | Clackamas, OR | 05/02/07 | 04/27/07
61419 | Firestone Tube Co. (USW) | Russellville, AR | 05/02/07 | 04/30/07
61420 | Byer Manufacturing (Wkrs) | Orono, ME | 05/02/07 | 04/23/07
61421 | Filtrona Richmond, Inc. (Comp) | Richmond, VA | 05/02/07 | 04/20/07
61422 | WestPoint Home, Fairfax Manufacturing (Comp) | Valley, AL | 05/02/07 | 04/30/07
61423 | Lane Furniture Industries, Inc. (Comp) | Tupelo, MS | 05/02/07 | 04/30/07
61424 | Hewlett Packard (Wkrs) | Corvaillis, OR | 05/02/07 | 04/27/07
61425 | The Oak Mine, Inc. (Wkrs) | Grant Pass, OR | 05/02/07 | 04/23/07
61426 | Badger (Wkrs) | Wausau, WI | 05/02/07 | 04/30/07
61427 | Iron Age Corporation (Wkrs) | Westborough, MA | 05/02/07 | 05/01/07
61428 | Dana Corporation (Comp) | Statesville, NC | 05/02/07 | 04/30/07
61429 | Burns Best, Inc. (Wkrs) | Spooner, WI | 05/02/07 | 04/09/07
61430 | Thomasville Furniture Plant 4 (Comp) | Troutman, NC | 05/02/07 | 04/30/07
61431 | Thomasville Furniture Industrial Plant C (Comp) | Thomasville, NC | 05/02/07 | 04/30/07
61432 | Deluxe Media Services, LLC (Wkrs) | Pleasant Prairie, WI | 05/03/07 | 05/02/07
61433 | Nacom Corporation (Wkrs) | Griffin, GA | 05/03/07 | 04/11/07
61434 | Judith Lieber (Wkrs) | New York, NY | 05/03/07 | 04/18/07
61435 | Sanmina-SCI, USA (Comp) | Phoenix, AZ | 05/03/07 | 05/01/07
61436 | U.P. Plastics Inc. (Comp) | Baraga, MI | 05/03/07 | 05/01/07
61437 | Freightliner, LLC (Wkrs) | Cleveland, NC | 05/03/07 | 05/02/07
61438 | TMP Directional Marketing (Wkrs) | Fort Wayne, IN | 05/03/07 | 04/09/07
61439 | Rugg Manufacturing Company, Inc. (Comp) | Greenfield, MA | 05/03/07 | 05/01/07
61440 | Numatics (Comp) | Highland, MI | 05/03/07 | 05/02/07
61441 | Reither and Schefenacker USA LP (Wkrs) | Selmer, TN | 05/04/07 | 04/02/07
61442 | Connor Manufacturing Services (Comp) | Portland, OR | 05/04/07 | 05/03/07
61443 | Seagate Technology (State) | Shakopee, MN | 05/04/07 | 05/03/07
61444 | Bilt Best Products, Inc. (State) | Sainte Genevieve, MO | 05/04/07 | 05/03/07
61445 | United Airlines (Comp) | Elk Grove Village, IL | 05/04/07 | 05/03/07
61446 | Bosal Industries, Tennessee (Comp) | Columbia, TN | 05/04/07 | 04/24/07
61447 | Stretchline USA, Inc. (Comp) | Rocky Mount, NC | 05/04/07 | 04/07/07
61448 | CST Powertrain Components, Inc. (UAW) | Chesterfield, MI | 05/04/07 | 05/02/07
61449 | Delphi Corporation (Comp) | Wichita Falls, TX | 05/04/07 | 04/30/07

[FR Doc. E7-9475 Filed 5-16-07; 8:45 am]

BILLING CODE 4510-FN-P